DEPARTMENT OF HOUSING AND URBAN DEVELOPMENT

[Docket No. FR-4736-N-15]

Notice of Proposed Information Collection for Public Comment for the Housing Choice Voucher Program: Application, Utilities, Inspection, Financial Reports, Request for Lease Approval, Certificate of Family Participation, Housing Voucher, Portability Information, Housing Assistance Payments Contracts (Tenant-Based)

AGENCY: Office of the Assistant Secretary for Public and Indian Housing.

ACTION: Notice.

SUMMARY: The proposed information collection requirement described below will be submitted to the Office of Management and Budget (OMB) for review, as required by the Paperwork Reduction Act. The Department is soliciting public comments on the subject proposal.

DATES: Comment Due Date: December 9, 2002.

ADDRESSES: Interested persons are invited to submit comments regarding this proposal. Comments should refer to the proposal by name and/or OMB Control Number and should be sent to: Mildred M. Hamman, Reports Liaison Officer, Public and Indian Housing, Department of Housing & Urban Development, 451 7th Street, SW., Room 4249, Washington, DC 20410-5000.

FOR FURTHER INFORMATION CONTACT: Mildred M. Hamman, (202) 708-0614, extension 4128, for copies of the proposed forms and other available documents. (This is not a toll-free number). For hearing- and speech-impaired persons, this telephone number may be accessed via TTY (Text telephone) by calling the Federal Information Relay Services at 1-800-877-8339 (toll-free).

SUPPLEMENTARY INFORMATION: The Department will submit the proposed information collection to OMB for review, as required by the Paperwork Reduction Act of 1995 (44 U.S.C. Chapter 35, as amended).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submissions of responses.

This Notice also Lists the following Information:

Title of Proposal: Housing Choice Voucher Program: Application, Utilities, Inspection, Financial Reports, Request for Lease Approval, Certificate of Family Participation, Housing Voucher, Portability Information, Housing Assistance Payments (HAP) Contracts—Tenant-Based.

OMB Control Number: 2577-0169.

Description of the Need for the Information and Proposed Use: Housing Agencies (HAS) will prepare an application for funding which specifies the number of units requested, as well as the HA's objectives and plans for administering the Housing Choice Voucher Program. The application is reviewed by the HUD Field Office and ranked according to the HA's administrative capability, the need for housing assistance, and other factors specified in the Notice of Funding Availability (NOFA). The HAs must establish a utility allowance schedule for all utilities and other services. Units must be inspected, using HUD-prescribed forms to determine if the units meet the housing quality standards (HQS) of the Program. HAs are also required to maintain financial reports in accordance with accepted accounting standards. The required financial statements are similar to those prepared by any responsible business or organization at the end of the fiscal year. The family must complete and submit to the HA a Request for Lease Approval when it finds a unit which is suitable for its needs, a Certificate of Family Participation, and Housing Voucher. Initial HAs will use a standardized form to submit portability information to the receiving HA who will also use the form for monthly portability billing. HAs and Owners will enter into HAP Contacts each providing information on rents, payments, certifications, notifications, and Owner agreement in a form acceptable to the HA.

Agency form numbers: HU-52515, HUD-52517, HUD-52580, HUD-52580-A, HUD-52646, HUD-52665, HUD-52667, HUD-52672, HUD-52673, HUD-52581, HUD-52641, HUD-52641-A, HUD-52642, HUD-52642-A (Forms HUD-52595 and HUD-52663 are canceled.)

Members of the Affected Public: State and Local Governments, businesses or other for profits.

Estimation of the Total Number of Hours Needed to Prepare the Information Collection including the Number of Respondents, Frequency of response, and hours of response: The number of respondents (2500 HAs + 410,000 families + 100,000 tenant-based owners + 100 project-based owners) = 512,600 total respondents, hours per response varies for each form, frequency, annually and on-occasion, total annual burden hours 650,975.¹

¹ The cancellation of two forms and the transfer of elevated blood level match which is now covered under Part 35 reduced the burden hours by 6,025 hours. The addition of the information collection in the HAP Contracts will void the decrease keeping the burden hour the same.

Status of the Proposed Information Collection: Extension with change only adding the HAP Contracts.

Authority: Section 3506 of the Paperwork Reduction Act of 1995, 44 U.S.C. Chapter 35, as amended.

Dated: September 30, 2002.
Paula O. Blunt,
General Deputy Assistant Secretary for Public and Indian Housing.

BILLING CODE 4210-33-M

[FR Doc. 02-25343 Filed 10-7-02; 8:45 am]

BILLING CODE 4210-33-C